DEPARTMENT OF HEALTH AND HUMAN SERVICES

Health Resources and Service Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Dates and Times: June 28, 2016 (Day 1—8:30 a.m.-5:00 p.m., EST), June 29, 2016 (Day 2—8:30 a.m.-5:00 p.m., EST).

Place: In-Person Meeting with Webinar/Conference Call Component, 5600 Fishers Lane, Room 5E29, Rockville, MD 20857.

Status: The meeting will be open to the public.

Purpose: The ACTPCMD provides advice and recommendations on a broad range of issues relating to grant programs authorized by title VII, part C, sections 747 and 748 of the Public Health Service Act (PHSA). During the June 28-29, 2016 meeting, the Committee will discuss the topic for the 14th report which is divided into two areas: a) Review of Primary Care Medicine and Dentistry Programs under title VII, part C of the PHSA and b) the ways to integrate behavioral health content into primary care medicine and dentistry training programs.

Agenda: The purpose of the Advisory Committee meeting is two-fold: a) Review the activities under sections 747 and 748, part C of title VII of the PHS Act including performance measures, longitudinal evaluations, and appropriation levels for these programs; and b) review ways that behavioral health content could be integrated into primary care education and training. The Committee has identified that integrating behavioral health services into primary care settings offers a promising, viable, and efficient way of ensuring that people have access to needed behavioral health services. The ACTPCMD's reports are submitted to the Secretary of the Department of Health and Human Services; the Committee on Health, Education, Labor, and Pensions of the Senate; and the Committee on Energy and Commerce of the House of Representatives. The ACTPCMD agenda will be available 2 days prior to the meeting on the HRSA Web site at http://www.hrsa.gov/advisorycommittees/bhpradvisory/actpcmd/index.html.

SUPPLEMENTARY INFORMATION: Requests to make oral comments or provide written comments to the ACTPCMD should be sent to Dr. Joan Weiss, Designated Federal Official, using the address and phone number below. Individuals who plan to make oral comments or provide written comments to the ACTPCMD should notify Dr. Weiss at least 3 days prior to the meeting, using the address or phone number below. Members of the public will have the opportunity to provide comments. Individuals who plan to attend and need special assistance, such as sign language interpretation or other reasonable accommodations, should notify Dr. Weiss at least 10 days prior to the meeting.

• The conference call-in number is 1-800-619-2521. The passcode is 9271697.

• The webinar link is https://hrsa.connectsolutions.com/actpcmd.

Contact: Anyone requesting information regarding the ACTPCMD should contact Dr. Joan Weiss, Designated Federal Official within the Bureau of Health Workforce, Health Resources and Services Administration, in one of three ways: (1) Send a request to the following address: Dr. Joan Weiss, Designated Federal Official, Bureau of Health Workforce, Health Resources and Services Administration, 5600 Fishers Lane, Room 15N39, Rockville, Maryland 20857; (2) call (301) 443-0430; or (3) send an email to jweiss@hrsa.gov.

Jason Bennett,
Director, Division of the Executive Secretariat.

[FR Doc. 2016-13523 Filed 6-7-16; 8:45 am]

BILLING CODE 4165-15-P